DEPARTMENT OF THE INTERIOR

National Park Service

Final Environmental Impact Statement/Fire Management Plan Santa Monica Mountains National Recreation Area Los Angeles and Ventura Counties, CA; Notice of Approval of Record of Decision

SUMMARY: Pursuant to section 102(2)(C) of the National Environmental Policy Act of 1969 (Pub. L. 91-190, as amended) and the implementing regulations promulgated by the Council on Environmental Quality (40 CFR 1505.2), the Department of the Interior, National Park Service has prepared, and the Regional Director, Pacific West Region has approved, the Record of Decision for the Fire Management Plan for Santa Monica Mountains National Recreation Area. The formal no-action period was officially initiated December 23, 2005, with the U.S. Environmental Protection Agency's Federal Register notification of the filing of the Final Environmental Impact Statement (EIS).

Decision: As soon as practicable the park will begin to implement as its updated Fire Management Plan the “Mechanical Fuel Reduction/Ecological Prescribed Fire/Strategic Fuels Treatment” alternative (also described and analyzed as the Preferred Alternative (2)) contained in the Draft and Final EIS. The selected plan provides the maximum potential environmental benefits and minimizes adverse effects of fire management activities. Alternative 2 is the most flexible alternative, utilizing all available fire management strategies deemed to be appropriate for the mediterranean type conditions found in Santa Monica Mountains National Recreation Area. As documented in the EIS, this plan was also deemed to be the “environmentally preferred” alternative.

This course of action and three alternatives were identified and analyzed in the Final EIS, and previously in the Draft EIS (the latter was distributed in June 2004). The full spectrum of foreseeable environmental consequences was assessed, and appropriate mitigation measures identified, for each alternative. Beginning with early scoping, through the preparation of the Draft and Final EIS, numerous public meetings were conducted (in Thousand Oaks, Malibu, Los Angeles, Agoura Hills, Calabasas) and newsletter updates were regularly provided. Approximately 25 written comments responding to the Draft EIS were received and duly considered. Key consultations which aided in preparing the Draft and Final EIS involved (but were not limited to) the U.S. Fish and Wildlife Service, State Historic Preservation Office, native American Tribes, air quality management districts, adjoining land managing agencies, and U.S. Geological Survey. Local communities, county and city officials, and interested organizations were contacted extensively during initial scoping and throughout the fire planning process.

Copies: Interested parties desiring to review the Record of Decision may obtain a complete copy by contacting the Superintendent, Santa Monica Mountains National Recreation Area, and 401 West Hillcrest Dr., Thousand Oaks, CA 91360-4223 or via telephone request at (805) 370-2300.

Dated: February 16, 2006.
Jonathan B. Jarvis,
Regional Director, Pacific West Region.

[FR Doc. E6-3557 Filed 3-13-06; 8:45 am]

BILLING CODE 4312-FE-P